FEDERAL COMMUNICATIONS COMMISSION

Notice of Public Information Collection(s) Being Reviewed by the Federal Communications Commission, Comments Requested

September 20, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 5, 2005. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an e-mail to PRA@fcc.gov or contact Judith B. Herman at 202-418-0214.

SUPPLEMENTARY INFORMATION:

OMB Control No.: 3060-0207.

Title: Part 11—Emergency Alert System (EAS).

Form No.: N/A.

Type of Review: Revision of a currently approved collection.

Respondents: Business or other for-profit, not-for-profit institutions.

Number of Respondents: 22,000 respondents; 1,188,761 responses.

Estimated Time Per Response: .017 hours-40 hours.

Frequency of Response: On occasion reporting requirement and recordkeeping requirement.

Total Annual Burden: 22,068 hours.

Total Annual Cost: N/A.

Privacy Act Impact Assessment: N/A.

Needs and Uses: Part 11 contains rules and regulations providing for an EAS. The EAS provides the President with the capability to provide immediate communications and information to the general public at the national, state, and local area level during periods of national emergency. The EAS also provides state and local governments and the National Weather Service with the capability to provide immediate communications and information to the general public concerning emergency situations posting a threat to life and property.

Part 11 describes the required technical standards and operational procedures of the EAS for AM, FM, and TV broadcast stations, cable systems, wireless cable systems and other participating entities and includes recordkeeping and reporting requirements.

This information is used by FCC staff as part of routine inspections of broadcast stations. Accurate recordkeeping of this data is vital in determining the location and nature of possible equipment failure on the part of the transmitting or receiving entity. Furthermore, since the national level EAS is solely for the President's use, its proper operation must be assured.This information collection is being revised by eliminating the one-time requirement to purchase a computer chip to voluntarily update the event and location codes. This requirement was approved by the Office of Management and Budget (OMB) on 1/21/03. After this 60 day comment period, the Commission will submit a Request for OMB Review (OMB 83i submission) to obtain approval of this revised collection.

OMB Control No.: 3060-0645.

Title: Section 17.4, Antenna Registration.

Form No.: N/A.

Type of Review: Extension of a currently approved collection.

Respondents: Business or other for-profit; not-for-profit institutions, and state, local or tribal government.

Number of Respondents: 25,600.

Estimated Time Per Response: .25-1.2 hours (average).

Frequency of Response: On occasion reporting requirement, third party disclosure requirement, and recordkeeping requirement.

Total Annual Burden: 40,329 hours.

Total Annual Cost: $3,200,000.

Privacy Act Impact Assessment: N/A.

Needs and Uses: The owner of any proposed or existing antenna structure that requires notice of proposed construction to the Federal Aviation Administration (FAA) must register the structure with the Commission. This includes those structures used as part of stations licensed by the Commission for the transmission of radio energy, or to be used as part of a cable television head end system. Structure owners are required to provide specific information under Part 17. The data is used by FCC staff during investigations related to air safety or radio frequency interference.

After the 60 day comment period has ended, the Commission will submit a Request for OMB Review (OMB 83i submission) to obtain approval of this extended (no change in requirements) collection.

Federal Communications Commission.
Marlene H. Dortch,
Secretary.

[FR Doc. 05-19520 Filed 10-4-05; 8:45 am]

BILLING CODE 6712-01-P